DEPARTMENT OF EDUCATION

Applications for New Awards; School Climate Transformation Grant Program—Local Educational Agency Grants

AGENCY: Office of Elementary and Secondary Education, Department of Education.

ACTION: Notice.

SUMMARY: The Department of Education (Department) is issuing a notice inviting applications for fiscal year (FY) 2019 for the School Climate Transformation Grant Program—Local Educational Agency Grants, Catalog of Federal Domestic Assistance (CFDA) number 84.184G. This notice relates to the approved information collection under OMB control number 1894-0006.

DATES:

Applications Available: June 10, 2019.

Deadline for Transmittal of Applications: July 22, 2019.

Deadline for Intergovernmental Review: September 18, 2019.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Carlette KyserPegram. Telephone: (202) 453-6732. Email: LEA.SCTG19@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The School Climate Transformation Grant Program—Local Educational Agency Grants (SCTG-LEA) provides competitive grants to local educational agencies (LEAs) to develop, enhance, or expand systems of support for, and technical assistance to, schools implementing a multi-tiered system of support, for improving school climate.

Background: School climate plays a critical role in the potential success and school experiences of a student. Students who learn in positive learning environments are more likely to improve academically, participate more fully in the classroom, and develop skills that will help them be successful in school and in life. Recent studies on school climate have focused on the many different elements and indicators of the overall quality of a school's climate, and its relationship to academic and behavioral outcomes.¹ Accordingly, in 2014, the Department developed a school climate survey resource, called the ED School Climate Survey tool (EDSCLS), to assist States, local districts, and schools to collect and access data related to their school climate. This tool focuses on three content domains: (1) Engagement (which encompasses cultural and linguistic competence, relationships, and school participation), (2) safety (which encompasses emotional safety, physical safety, bullying/cyberbullying, substance abuse, and emergency readiness/management), and (3) environment, including physical environment, instructional environment, physical health, mental health, and discipline.²

¹ Wang, M.T. & Degol, J.L. (2016). School Climate: A Review of the Construct, Measurement, and Impact on Student Outcomes. Educational Psychology Review, 28(2), 315-352.

² National Center on Safe Supportive Learning Environments. ED School Climate Surveys. Retrieved from: https://safesupportivelearning.ed.gov/edscls/measures.

In April 2019, the Department released a Parent and Educator Guide to School Climate Resources (Guide) document. The purpose of the Guide is to provide general information about the concept of school climate improvement, suggestions for leading an effective school climate improvement effort, and additional resources for those interested in more information.³

³ Access the Parent and Educator Guide to School Climate Resources (Guide) at: https://www2.ed.gov/policy/elsec/leg/essa/essaguidetoschoolclimate041019.pdf.

Implementing a multi-tiered system of support (MTSS) framework is one strategy schools can use to address their school climate concerns. MTSS frameworks are designed to assist schools in providing the appropriate level of instruction and intervention for their students. The successful implementation of an MTSS can support many areas of students' needs including academic growth and achievement, behavior, and social and emotional needs. In schools with healthy learning environments, students tend to score higher on standardized tests.⁴ Conversely, researchers find that students who perceive personal victimization and unfairness in school are generally less engaged, and schools where students report more hostility have lower student engagement and lower academic achievement.⁵ Furthermore, data from the 2015 School Crime Supplement shows that students experiencing bullying or criminal victimization rate their schools' overall climate lower.⁶ We also note that multi-tiered behavioral frameworks, such as positive behavioral interventions and supports (PBIS), that were the focus of the previous School Climate Transformation Grants LEA competition in fiscal year 2014, are an example of an MTSS that research shows can help improve overall school climate and safety.⁷

⁴ MacNeil, A.J., Prater, D.L., & Busch, S. (2009). The effects of school culture and climate on student achievement. International Journal of Leadership in Education, 12(1), 73-84.

⁵ Ripski, M.B., & Gregory, A. (2009). Unfair, unsafe, and unwelcome: Do high school students' perceptions of unfairness, hostility, and victimization in school predict engagement and achievement? Journal of School Violence, 8(4), 355-375.

⁶ National Center for Education Statistics. (2018). Measuring School Climate Using the 2015 School Crime Supplement: Technical Report. Institute of Education Sciences, Retrieved from: https://nces.ed.gov/pubs2018/2018098.pdf.

⁷ Bradshaw, C.P., Koth, C.W., Thornton, L.A., & Leaf, P.J. (2009). Altering School Climate through School-Wide Positive Behavioral Interventions and Supports: Findings from a Group-Randomized Effectiveness Trial. Prevention Science.

In March 2018, the President emphasized a national need to examine the safety and security of our schools. He also appointed a Federal Commission on School Safety.⁸ In December 2018, the Federal Commission on School Safety released a final report on its work. The report offers recommendations for States, local communities, and the Federal government on strategies for improving school safety.⁹ Under the SCTG-LEA program, grantees may use funds to support activities directly linked with some of those recommendations as they develop local approaches to address a wide range of school climate issues through implementation of evidence-based practices for improving school engagement, safety, and environment for all students.

⁸ See www.whitehouse.gov/briefings-statements/president-donald-j-trump-taking-immediate-actions-secure-schools/.

⁹ Report available at: https://www2.ed.gov/documents/school-safety/school-safety-report.pdf.

Moreover, LEAs that implement these school climate improvement efforts as part of a coordinated strategy will enhance their ability to achieve the goals and objectives of both this program and others that are included in the coordinated effort. A coordination of all programs that use evidence-based practices for improving school engagement, safety, and environment for all students will facilitate interagency partnerships and strategies to address school climate issues in a comprehensive manner.

Through this program, the Department will prioritize supporting certain communities that may uniquely benefit from implementing a multi-tiered system of support. In particular, the Department is establishing an absolute priority for an LEA that is a rural LEA (as defined in this notice) or serves a Tribal community. The Department is also establishing a separate absolute priority for an LEA that is in a Qualified Opportunity Zone (as defined in this notice).

Priorities: This competition includes four absolute priorities and three competitive preference priorities. We are establishing the absolute priorities and Competitive Preference Priority 3 for the FY 2019 grant competition and any subsequent year in which we make awards from the list of unfunded applications from this competition, in accordance with section 437(d)(1) of the General Education Provisions Act (GEPA), 20 U.S.C. 1232(d)(1). In accordance with 34 CFR 75.105(b)(2)(ii), Competitive Preference Priorities 1 and 2 are from the Department's Notice of Final Supplemental Priorities and Definitions for Discretionary Grant Programs (Supplemental Priorities), published in the Federal Register on March 2, 2018 (83 FR 9096).

Absolute Priorities: For FY 2019 and any subsequent year in which we make awards from the list of unfunded applications from this competition, these priorities are absolute priorities. Under 34 CFR 75.105(c)(3) we consider only applications that meet Absolute Priority 1 and one of Absolute Priorities 2, 3, or 4.

Note: The Secretary intends to create three funding slates for SCTG applications—one for applications that meet Absolute Priorities 1 and 2, a separate slate for applications that meet Absolute Priorities 1 and 3, and a third slate for applications that meet Absolute Priorities 1 and 4. As a result, the Secretary may fund applications out of the overall rank order. The Secretary anticipates awarding at least 15 grants from among applicants that meet Absolute Priorities 1 and 2 and at least 15 grants from applicants that meet Absolute Priorities 1 and 3, provided applications of sufficient quality are submitted, but the Secretary is not bound by these estimates. Applicants must clearly identify the specific absolute priorities that the proposed project addresses.

These priorities are:

Absolute Priority 1—Improving School Climate.

Projects designed to develop, enhance, or expand systems of support for, and technical assistance to, schools implementing a multi-tiered system of support for improving school climate, which may include a multi-tiered behavioral framework, by using evidence-based efforts that are designed to foster safety; promote supportive academic, disciplinary, and physical environments; and/or encourage and maintain respectful, trusting, and caring relationships throughout the school community.

Absolute Priority 2—LEAs that are rural LEAs or serve a federally recognized Tribe.

An LEA, including a BIE-funded school, meets this absolute priority if it provides evidence that it meets one of the following criteria: (1) It is a rural LEA, as defined in this notice; or (2) it predominantly serves members of one federally recognized Tribe. In determining whether a charter school LEA meets criteria (1) of this absolute priority, we consider where the school is located, regardless of where the students it serves live.

Absolute Priority 3—LEAs that include a Qualified Opportunity Zone.

An LEA meets this priority if it includes, as a portion of the area served by the LEA, a Qualified Opportunity Zone under section 1400Z-1 of the Internal Revenue Service Code, as amended by the Tax Cuts and Jobs Act, as defined in this notice. In determining whether a charter school LEA meets this absolute priority, we consider where the school is located, regardless of where the students it serves live.

Absolute Priority 4—LEAs that are not rural LEAs, do not include Qualified Opportunity Zones, and do not serve a Tribe.

An LEA meets this absolute priority if it indicates in its application that it is not a rural LEA, as defined in this notice, does not serve a Qualified Opportunity Zone, and does not predominantly serve members of one federally recognized Tribe.

Competitive Preference Priorities: For FY 2019 and any subsequent year in which we make awards from the list of unfunded applications from this competition, these priorities are competitive preference priorities. Under 34 CFR 75.105(c)(2)(1) we award up to an additional two points for Competitive Preference Priority 1, up to an additional three points for Competitive Preference Priority 2, and up to an additional five points for Competitive Preference Priority 3, depending on how well the application meets each of Competitive Preference Priorities 1, 2, and 3. Applications may address any one or more of the competitive preference priorities, for a maximum of 10 competitive preference priority points. An applicant must clearly indicate in the abstract section of its application each competitive preference priority under which it is applying.

These priorities are:

Competitive Preference Priority 1—Protecting Freedom of Speech and Encouraging Respectful Interactions in a Safe Educational Environment. (0 to 2 points)

Projects that are designed to develop positive learning environments that promote strong relationships among students and school personnel to help prevent bullying, violence, and disruptive actions that diminish the opportunity for each student to receive a high-quality education.

Competitive Preference Priority 2—Fostering Knowledge and Promoting the Development of Skills That Prepare Students To Be Informed, Thoughtful, and Productive Individuals and Citizens. (0 to 3 points)

Projects that are likely to improve student academic performance and better prepare students for employment, responsible citizenship, and fulfilling lives, including by preparing children or students to do one or more of the following:

(i) Develop positive personal relationships with others.

(ii) Develop determination, perseverance, and the ability to overcome obstacles.

(iii) Develop self-esteem through perseverance and earned success.

(iv) Develop problem-solving skills.

(v) Develop self-regulation in order to work toward long-term goals.

Competitive Preference Priority 3—Opioid Abuse and Prevention. (0 to 5 points)

Applications that propose a high-quality plan to implement opioid abuse prevention and mitigation strategies. The plan must describe how the LEA will use funds to implement evidence-based strategies for preventing opioid abuse by students, and/or address the mental health needs of students who are negatively impacted by family or community members who are (or have been) abusers. The plan may also include providing technical assistance to, or support for, schools that implement or plan to implement high-quality approaches to opioid abuse prevention such as the Screening, Brief Intervention, and Referral to Treatment (SBIRT) approach supported by the U.S. Department of Health and Human Services, Substance Abuse and Mental Health Services Administration. Applicants that receive competitive preference points under this priority and are ultimately awarded an SCTG-LEA grant will finalize and implement the high-quality plan described in response to this priority post-award.

Requirements: We are establishing these program requirements and application requirements for the FY 2019 grant competition and any subsequent year in which we make awards from the list of unfunded applications from this competition, in accordance with section 437(d)(1) of GEPA, 20 U.S.C. 1232(d)(1).

Program Requirements: Each grantee must implement a project that builds LEA capacity for supporting schools implementing evidence-based efforts to improve school climate by—

(a) Developing, enhancing, or expanding systems of support for, and technical assistance to, schools implementing a multi-tiered system of support for improving school climate by using evidence-based efforts that are designed to foster safety; promote supportive academic, disciplinary, and physical environments; and/or encourage and maintain respectful, trusting, and caring relationships throughout the school community;

(b) Improving the skills of LEA personnel to assist schools' efforts to improve school climate through, for example, policies, funding, professional development, coaching, and coordination of providing services and implementing programs;

(c) Improving the quality, accessibility, and usefulness of any relevant districtwide data collection and analysis related to data-based decision making in areas related to improved school climate;

(d) Defining what it means to implement the multi-tiered system of support with fidelity and determining annually the extent to which the impacted schools are implementing such model with fidelity, for example, by using a tool or rubric to review implementation;

(e) Encouraging the use of evidence-based practices and reliable and valid tools and processes for evaluating the fidelity of efforts related to improved school climate; and

(f) Coordinating LEA efforts with appropriate Federal, State, and local resources.

Application Requirements: The applicant must—

(a) Describe the current efforts by the LEA to support schools implementing evidence-based efforts that are designed to foster safety; promote a supportive academic, disciplinary, and physical environment; and/or encourage and maintain respectful, trusting, and caring relationships throughout the school community;

(b) Describe how the LEA used the EDSCLS or similar assessment tool to help determine program needs and will use the EDSCLS or similar assessment tool for program decision making and improvements;

(c) Describe its plan to build, improve, or enhance LEA capacity to provide effective training, technical assistance, and support to schools related to implementing evidence-based efforts that are designed to foster safety; promote a supportive academic, disciplinary, and physical environment; and/or encourage and maintain respectful, trusting, and caring relationships throughout the school community, including—

(1) When and how often the applicant plans to conduct technical assistance activities;

(2) How the applicant plans to garner buy-in from participants and other stakeholders; and

(3) The estimated number of schools that will be assisted; and

(d) Describe how the proposed project will address the needs of schools identified for comprehensive support and improvement under section 1111(d)(1) of the Elementary and Secondary Education Act of 1965, as amended (ESEA), and schools identified for targeted support and improvement under section 1111(d)(2) of the ESEA.

Definitions: We are establishing the definitions of “Qualified Opportunity Zone” and “rural local educational agency” in this notice for the FY 2019 grant competition and any subsequent year in which we make awards from the list of unfunded applications from this competition, in accordance with section 437(d)(1) of GEPA, 20 U.S.C. 1232(d)(1). The definition of “local educational agency” is from 20 U.S.C. 7801(30). The definition of “multi-tiered system of support” is from section 8101(33) of the ESEA. The definitions of “demonstrates a rationale,” “evidence-based,” “experimental study,” “logic model,” “moderate evidence,” “project component,” “promising evidence,” “quasi-experimental design study,” “relevant outcome,” “strong evidence,” and “What Works Clearinghouse Handbook” are from 34 CFR 77.1.

These definitions are:

Demonstrates a rationale means a key project component included in the project's logic model is informed by research or evaluation findings that suggest the project component is likely to improve relevant outcomes.

Evidence-based means the proposed project component is supported by one or more of strong evidence, moderate evidence, promising evidence, or evidence that demonstrates a rationale.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Local educational agency (LEA) means—

(i) A public board of education or other public authority legally constituted within a State for either administrative control or direction of, or to perform a service function for, public elementary schools or secondary schools in a city, county, township, school district, or other political subdivision of a State, or of or for a combination of school districts or counties that is recognized in a State as an administrative agency for its public elementary schools or secondary schools;

(ii) Any other public institution or agency having administrative control and direction of a public elementary school or secondary school;

(iii) An elementary school or secondary school funded by the Bureau of Indian Education but only to the extent that including the school makes the school eligible for programs for which specific eligibility is not provided to the school in another provision of law and the school does not have a student population that is smaller than the student population of the local educational agency receiving assistance under this Act with the smallest student population, except that the school shall not be subject to the jurisdiction of any State educational agency other than the Bureau of Indian Education;

(iv) Educational service agencies and consortia of those agencies; or

(v) The State educational agency in a State in which the State educational agency is the sole educational agency for all public schools.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1 or 3.0 of the WWC Handbook reporting a “strong evidence base” or “moderate evidence base” for the corresponding practice guide recommendation;

(ii) An intervention report prepared by the WWC using version 2.1 or 3.0 of the WWC Handbook reporting a “positive effect” or “potentially positive effect” on a relevant outcome based on a “medium to large” extent of evidence, with no reporting of a “negative effect” or “potentially negative effect” on a relevant outcome; or

(iii) A single experimental study or quasi-experimental design study reviewed and reported by the WWC using version 2.1 or 3.0 of the WWC Handbook, or otherwise assessed by the Department using version 3.0 of the WWC Handbook, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

Multi-tiered system of support means a comprehensive continuum of evidence-based, systemic practices to support a rapid response to students' needs, with regular observation to facilitate data-based instructional decision making.

Note: For purposes of this notice a multi-tiered behavioral framework such as Positive Behavioral Interventions and Supports falls under this definition.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Qualified Opportunity Zone means a Qualified Opportunity Zone, as designated by the Secretary of the Treasury under section 1400Z-1 of the Internal Revenue Code, as amended by the Tax Cuts and Jobs Act (Pub. L. 115-97). To demonstrate that it meets Absolute Priority 3 by being located in a Qualified Opportunity Zone, an applicant must provide the census tract number of the Qualified Opportunity Zone(s) in which it proposes to provide services. A list of Qualified Opportunity Zones is available at: www.cdfifund.gov/Pages/Opportunity-Zones.aspx.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcome(s) the key project component is designed to improve, consistent with the specific goals of the program.

Rural local educational agency means a local educational agency that is eligible under the Small Rural School Achievement (SRSA) program or the Rural and Low-Income School (RLIS) program authorized under Title V, Part B of the ESEA. Eligible applicants may determine whether a particular district is eligible for these programs by referring to information on the Department's website at https://www2.ed.gov/programs/reapsrsa/eligibility.html.

Note: For the purposes of this competition, in order to qualify as a rural LEA under this definition, an LEA must have been eligible for fiscal year 2018 or 2019 SRSA or RLIS funds.

Strong evidence means that there is evidence of the effectiveness of a key project component in improving a relevant outcome for a sample that overlaps with the populations and settings proposed to receive that component, based on a relevant finding from one of the following:

(i) A practice guide prepared by the WWC using version 2.1 or 3.0 of the WWC Handbook reporting a “strong evidence base” for the corresponding practice guide recommendation;

(ii) An intervention report prepared by the WWC using version 2.1 or 3.0 of the WWC Handbook reporting a “positive effect” on a relevant outcome based on a “medium to large” extent of evidence, with no reporting of a “negative effect” or “potentially negative effect” on a relevant outcome; or

(iii) A single experimental study reviewed and reported by the WWC using version 2.1 or 3.0 of the WWC Handbook, or otherwise assessed by the Department using version 3.0 of the WWC Handbook, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1 or 3.0 of the WWC Handbook; and

(D) Is based on a sample from more than one site (e.g., State, county, city, school district, or postsecondary campus) and includes at least 350 students or other individuals across sites. Multiple studies of the same project component that each meet requirements in paragraphs (iii)(A), (B), and (C) of this definition may together satisfy this requirement.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Waiver of Proposed Rulemaking: Under the Administrative Procedure Act (5 U.S.C. 553), the Department generally offers interested parties the opportunity to comment on proposed priorities and requirements. Section 437(d)(1) of GEPA, however, allows the Secretary to exempt from rulemaking requirements regulations governing the first grant competition under a new or substantially revised program authority. This is the first grant competition for this program under Title IV, part F, subpart 3 of the ESEA (20 U.S.C. 7281) and therefore qualifies for this exemption. In order to ensure timely grant awards, the Secretary has decided to forgo public comment on the priorities and requirements under section 437(d)(1) of GEPA. These priorities and requirements will apply to the FY 2019 grant competition and any subsequent year in which we make awards from the list of unfunded applications from this competition.

Program Authority: Subpart 3 of Title IV, Part F of the ESEA (20 U.S.C. 7281).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $40,000,000.

Contingent upon the availability of funds and the quality of applications, we may make additional awards in FY 2020 and subsequent years from the list of unfunded applications from this competition.

Estimated Range of Awards: $100,000 to $750,000 per year for up to 5 years.

Estimated Average Size of Awards: $500,000.

Maximum Award: We will not make an award exceeding $750,000 for a single budget period of 12 months.

Estimated Number of Awards: 80.

Note: The Department is not bound by any estimates in this notice.

Project Period: Up to 60 months.

III. Eligibility Information

1. Eligible Applicants: (a) LEAs, or consortia of LEAs, as defined by section 8101(30) of the ESEA. (b) The Secretary limits eligibility under this discretionary grant competition to LEAs that have never received a grant under SCTG-LEA.

2. Cost Sharing or Matching: This program does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this competition.

3. Funding Restrictions: We reference regulations outlining funding restrictions in the Applicable Regulations section of this notice.

V. Application Review Information

1. Selection Criteria: The selection criteria for this program are from 34 CFR 75.210. The maximum score for all selection criteria is 100 points. The points or weights assigned to each criterion are indicated in parentheses. Non-Federal peer reviewers will evaluate and score each application program narrative against the following selection criteria:

(a) Need for project. (15 points)

(1) The Secretary considers the need for the proposed project.

(2) In determining the need for the proposed project, the Secretary considers the extent to which specific gaps or weaknesses in services, infrastructure, or opportunities have been identified and will be addressed by the proposed project, including the nature and magnitude of those gaps or weaknesses.

(b) Significance. (15 points)

(1) The Secretary considers the significance of the proposed project.

(2) In determining the significance of the proposed project, the Secretary considers the extent to which the proposed project is likely to build local capacity to provide, improve, or expand services that address the needs of the target population.

(c) Quality of the project design. (20 points)

(1) The Secretary considers the quality of the design of the proposed project.

(2) In determining the quality of the design of the proposed project, the Secretary considers the following factors:

(i) The extent to which the design of the proposed project includes a thorough, high-quality review of the relevant literature, a high-quality plan for project implementation, and the use of appropriate methodological tools to ensure successful achievement of project objectives. (15 points)

(ii) The extent to which the proposed project represents an exceptional approach to the priority or priorities established for the competition. (5 points)

(d) Quality of the project services. (30 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the extent to which the training or professional development services to be provided by the proposed project are of sufficient quality, intensity, and duration to lead to improvements in practice among the recipients of those services.

(e) Quality of the project evaluation. (20 points)

(1) The Secretary considers the quality of the evaluation to be conducted of the proposed project.

(2) In determining the quality of the evaluation, the Secretary considers the following factors:

(i) The extent to which the methods of evaluation are thorough, feasible, and appropriate to the goals, objectives, and outcomes of the proposed project. (10 points)

(ii) The extent to which the methods of evaluation will provide performance feedback and permit periodic assessment of progress toward achieving intended outcomes. (10 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for SCTG-LEA:

(a) The number of training and/or technical assistance events to support implementation with fidelity provided annually by LEAs to schools implementing a multi-tiered system of support.

(b) Number and percentage of schools annually that report an improved school climate based on the results of the EDSCLS or similar tool.

(c) Number and percentage of schools annually that are implementing a multi-tiered system of support framework with fidelity.

(d) Number and percentage of schools annually that are implementing opioid abuse prevention and mitigation strategies.

(e) Number and percentage of schools that report an annual decrease in suspensions and expulsions related to possession or use of alcohol.

(f) Number and percentage of schools that report an annual decrease in suspensions and expulsions related to possession or use of other drugs.

These measures constitute the Department's indicators of success for this program. Consequently, we advise an applicant for a grant under this program to give careful consideration to these measures in conceptualizing the approach and evaluation for its proposed project. Each grantee will be required to provide, in its annual performance and final reports, data about its progress in meeting these measures. This data will be considered by the Department in making continuation awards.

Consistent with 34 CFR 75.591, grantees funded under this program shall comply with the requirements of any evaluation of the program conducted by the Department or an evaluator selected by the Department.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2019-12101 Filed 6-7-19; 8:45 am]

BILLING CODE 4000-01-P